DEPARTMENT OF ENERGY

Federal Energy Regulatory Commission

[Docket No. RP99-176-017 and RP99-176-018]

Natural Gas Pipeline Company of America; Notice of Proposed Changes in FERC Gas Tariff

April 28, 2000.

Take notice that on April 25, 2000, Natural Gas Pipeline Company of America (Natural) tendered for filing as part of its FERC Gas Tariff, Sixth Revised Volume No. 1. Original Sheet No. 26J.

Natural states that the purpose of this filing is to implement a negotiated rate transaction with the Peoples Gas Light and Coke Company (Peoples) under Natural's Rate Schedule ITS pursuant to Section 49 of the General Terms and Conditions of Natural's tariff.

Natural concurrently tenders by a separate filing in Docket No. RP99-176-018 its negotiated rate agreement (Agreement) between Natural and Peoples.

Natural states that the negotiated rate Agreement does not deviate in any material respects from the applicable form of service agreement in Natural's Tariff. Natural states that it submits the Agreement as an aid to Commission Staff because it provides a more detailed explanation of the pricing terms related to the transaction. Key provisions of the Agreement include guaranteed revenue, unhedged and unscheduled quantity adjustments, and the trigger agreement. Natural also states that the above pricing terms were critical to the Agreement by both parties and to the resulting negotiated rates.

Natural requests that Original Sheet No. 26J and the related Agreement to become effective April 25, 2000.

Natural states that copies of the filing are being mailed to Natural's customers, interested state commissions and all parties set out on the Commission's official service list in Docket No. RP99-176.

Any person desiring to be heard or to protest said filing should file a motion to intervene or a protest with the Federal Energy Regulatory Commission, 888 First Street, N.E., Washington, D.C. 20246, in accordance with Sections 385.214 or 385.211 of the Commission's Rules and Regulations. All such motions or protests must be filed in accordance with the Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

Linwood A. Watson, Jr.,
Acting Secretary.

[FR Doc. 00-10996 Filed 5-2-00; 8:45 am]

BILLING CODE 6717-01-M